ENVIRONMENTAL PROTECTION AGENCY

[EPA-HQ-OAR-2004-0500; FRL-8973-3]

Agency Information Collection Activities; Submission to OMB for Review and Approval; Comment Request; ENERGY STAR Program in the Residential Sector (Renewal), EPA ICR Number 2193.02, OMB Control Number 2060-0586

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 25, 2009.

ADDRESSES: Submit your comments, referencing Docket ID Number EPA-HQ-OAR-2004-0500, to (1) EPA online using http://www.regulations.gov (our preferred method), by e-mail to a-and-r-docket@epa.gov, or by mail to: EPA Docket Center (EPA/DC), Environmental Protection Agency, Air and Radiation Docket, Mailcode: 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Brian Ng, Office of Air and Radiation,

Mailcode: 6202J, Environmental Protection Agency, 1200 Pennsylvania Avenue, NW., Washington, DC 20460; telephone number: (202) 343-9162; fax number: (202) 343-2200; e-mail address: ng.brian@epa.gov.

SUPPLEMENTARY INFORMATION: EPA has submitted the following ICR to OMB for review and approval according to the procedures prescribed in 5 CFR 1320.12. On May 29, 2009 (74 FR 25732), EPA sought comments on this ICR pursuant to 5 CFR 1320.8(d). EPA received no comments. Any additional comments on this ICR should be submitted to EPA and OMB within 30 days of this notice.

EPA has established a public docket for this ICR under Docket ID No. EPA-HQ-OAR-2004-0500, which is available for online viewing at http://www.regulations.gov, or in person viewing at the Air and Radiation Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742.

Use EPA's electronic docket and comment system at http://www.regulations.gov, to submit or view public comments, access the index listing of the contents of the docket, and to access those documents in the docket that are available electronically.

Title: ENERGY STAR Program in the Residential Sector (Renewal).

ICR Numbers: EPA ICR No. 2193.02, OMB Control No. 2060-0586.

ICR Status: This ICR is scheduled to expire on November 30, 2009. Under OMB regulations, the Agency may continue to conduct or sponsor the collection of information while this submission is pending at OMB. An Agency may not conduct or sponsor, and a person is not required to respond to, a collection of information, unless it displays a currently valid OMB control number.

Abstract: EPA introduced ENERGY STAR, a voluntary public-private energy efficiency partnership program, in 1992 to label energy efficient computers. Since then, EPA and the Department of Energy (DOE) have expanded the ENERGY STAR Program to promote energy efficiency in over 60 product categories and in commercial and residential buildings. Increased energy efficiency through ENERGY STAR provides cost savings to businesses and homeowners, reduces greenhouse gas emissions from power plants, and increases U.S. energy security and reliability.

EPA announced ENERGY STAR for New Homes in 1995 as part of its effort to promote energy efficient construction in the new homes market. EPA rolled out its existing homes effort in 2000 to promote cost-effective upgrades to the existing homes market. These two efforts promote home envelope improvements such as the proper installation of adequate insulation and HVAC equipment, and installation of energy efficient windows, lights, and appliances. Since participation in the ENERGY STAR program is voluntary, partners are not required to submit information to EPA. Information received to date has been submitted voluntarily to EPA and is not of a confidential nature. EPA has developed this ICR to obtain authorization to collect information from the public, including businesses, for the following activities:

ENERGY STAR Partnership and Related Activities: An organization interested in joining ENERGY STAR as a partner is asked to submit a partnership agreement establishing its commitment to ENERGY STAR. Partners agree to undertake efforts such as educating staff and the public about their partnership with ENERGY STAR, developing and implementing a plan to improve energy performance in homes, and highlighting achievements utilizing the ENERGY STAR brand.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on residential energy use and the supply and demand for energy-efficient homes and home improvement products and services.

Quarterly Reporting: Partners are asked to submit information each calendar quarter to assist EPA in tracking and measuring progress in building and promoting ENERGY STAR qualified homes and installing and promoting energy-efficient improvements including those made under a Home Performance with ENERGY STAR program. This includes submitting quarterly updates on partners' level of activity in qualifying new homes for the ENERGY STAR label and activity in improving the energy efficiency of existing homes under Home Performance with ENERGY STAR and ENERGY STAR's HVAC Quality Installation program.

ENERGY STAR Awards: Each year, partners are eligible for an ENERGY STAR award, which recognizes organizations demonstrating outstanding support in promoting ENERGY STAR. This award program provides partners public recognition and market differentiation. An application form is submitted to EPA by partners interested in being eligible for an award.

Outreach Partnership: Partners have the opportunity to participate in an outreach partnership with EPA to develop public education campaigns featuring the benefits of ENERGY STAR qualified homes. Partners interested in participating in the outreach program are asked to submit a form detailing their level of participation.

Burden Statement: The average annual reporting and recordkeeping burden for the ENERGY STAR Program and related activities is estimated to be about one and a quarter hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Home builders, home energy verification organizations, lenders, regional energy efficiency programs/utilities, contractors, retailers, manufactured home plants, modular home plants, realtors, architects, homeowners.

Estimated Number of Respondents: 56,000.

Frequency of Response: once, occasionally, quarterly, annually.

Estimated Total Annual Hour Burden: 180,958.

Estimated Total Annual Cost: $10,896,852, which includes $16,000 in annualized capital/startup costs, $1,439 in annual operation and maintenance costs, and $10,879,413 in annual labor costs.

Changes in the Estimates: There is an increase of 5,509 hours in the total estimated burden currently identified in the OMB Inventory of Approved ICR Burdens. This increase is due to changes in ENERGY STAR's residential programs. New partnership categories have been added that have collection activities associated with them. In addition, new collection activities related to the evaluation of ENERGY STAR's residential programs have been added. Finally, EPA has adjusted some of its burden assumptions for its existing information collections to reflect changes in the industry.

Dated: October 20, 2009.
John Moses,
Director, Collection Strategies Division.

[FR Doc. E9-25673 Filed 10-23-09; 8:45 am]

BILLING CODE 6560-50-P